DEPARTMENT OF HOMELAND SECURITY

Coast Guard

[USCG-2005-21093]

Notification of the Removal of Conditions of Entry for Certain Vessels Arriving to the United States

AGENCY: Coast Guard, DHS.

ACTION: Notice of policy.

SUMMARY: The Coast Guard announces that conditions of entry are no longer being imposed on vessels arriving from the country of Nauru.

DATES: The policy announced in this notice is effective on August 1, 2005

ADDRESSES: The Docket Management Facility maintains the public docket for this notice. This notice will be available for inspection or copying at room PL-401 on the Plaza level of the Nassif Building, 400 Seventh Street SW., Washington, DC, between 9 a.m. and 5 p.m., Monday through Friday, except Federal holidays. You may also find this docket, including this notice, on the Internet at http://dms.dot.gov.

FOR FURTHER INFORMATION CONTACT: If you have questions on this notice, call Lieutenant Galia Kaplan, Coast Guard, telephone 202-366-2591.

SUPPLEMENTARY INFORMATION:

Background and Purpose

Section 70110 of the Maritime Transportation Security Act provides that the Secretary of Homeland Security may impose conditions of entry into the United States from ports that are not maintaining effective anti-terrorism measures. The Coast Guard has been delegated the authority by the Secretary to carry out the provisions of this section. On May 2, 2005, the Coast Guard published a Notice of policy in the Federal Register, (70 FR 22668) announcing that it had determined that ports in Nauru, among other countries, were not maintaining effective anti-terrorism measures, and imposed conditions of entry. Based on recent information, the Coast Guard has determined that Nauru is now maintaining effective anti-terrorism measures, and is accordingly removing the conditions of entry announced in its previously published notice of policy.

Dated: August 9, 2005.
C.E. Bone,
Rear Admiral, USCG, Director of Port Security.

[FR Doc. 05-17384 Filed 8-31-05; 8:45 am]

BILLING CODE 4910-15-P